SUSQUEHANNA RIVER BASIN COMMISSION

Projects Approved for Consumptive Uses of Water

AGENCY: Susquehanna River Basin Commission.

ACTION: Notice.

SUMMARY: This notice lists the projects approved by rule by the Susquehanna River Basin Commission during the period set forth in “DATES.”

DATES: August 1, 2011, through September 30, 2011.

ADDRESSES: Susquehanna River Basin Commission, 1721 North Front Street, Harrisburg, PA 17102-2391.

FOR FURTHER INFORMATION CONTACT: Richard A. Cairo, General Counsel, telephone: (717) 238-0423, ext. 306; fax: (717) 238-2436; e-mail: rcairo@srbc.net or Stephanie L. Richardson, Secretary to the Commission, telephone: (717) 238-0423, ext. 304; fax: (717) 238-2436; e-mail: srichardson@srbc.net. Regular mail inquiries may be sent to the above address.

SUPPLEMENTARY INFORMATION: This notice lists the projects, described below, receiving approval for the consumptive use of water pursuant to the Commission's approval by rule process set forth in 18 CFR 806.22(f) for the time period specified above:

Approvals By Rule Issued Under 18 CFR 806.22(f):

1. Talisman Energy USA Inc., Pad ID: 05 098 Younger, ABR-201108001, Pike Township, Bradford County, Pa.; Consumptive Use of up to 6.000 mgd; Approval Date: August 1, 2011.

2. Talisman Energy USA Inc., Pad ID: 02 010 DCNR 587, ABR-201108002, Ward Township, Tioga County, Pa.; Consumptive Use of up to 6.000 mgd; Approval Date: August 1, 2011.

3. Talisman Energy USA Inc., Pad ID: 03 113 Vanblarcom, ABR-201108003, Columbia Township, Bradford County, Pa.; Consumptive Use of up to 6.000 mgd; Approval Date: August 1, 2011.

4. Talisman Energy USA Inc., Pad ID: 03 110 Barlow, ABR-201108004, Columbia Township, Bradford County, Pa.; Consumptive Use of up to 6.000 mgd; Approval Date: August 1, 2011.

5. Cabot Oil & Gas Corporation, Pad ID: Mogridge P1, ABR-201108005, Springville Township, Susquehanna County, Pa.; Consumptive Use of up to 3.575 mgd; Approval Date: August 1, 2011.

6. EXCO Resources, (PA), LLC, Pad ID: Lamborne Pad 195, ABR-201108006, Jordan Township, Clearfield County, Pa.; Consumptive Use of up to 8.000 mgd; Approval Date: August 1, 2011.

7. Southwestern Energy Production Company, Pad ID: Cramer Pad, ABR-201108007, New Milford Township, Susquehanna County, Pa.; Consumptive Use of up to 4.990 mgd; Approval Date: August 4, 2011.

8. Seneca Resources Corporation, Pad ID: Rich Valley Pad B, ABR-201108008, Shippen Township, Cameron County, Pa.; Consumptive Use of up to 4.000 mgd; Approval Date: August 8, 2011.

9. Talisman Energy USA Inc., Pad ID: 03 111 Stephani, ABR-201108009, Columbia Township, Bradford County, Pa.; Consumptive Use of up to 6.000 mgd; Approval Date: August 8, 2011.

10. Talisman Energy USA Inc., Pad ID: 05 229 Acres, ABR-201108010, Windham Township, Bradford County, Pa.; Consumptive Use of up to 6.000 mgd; Approval Date: August 8, 2011.

11. EXCO Resources (PA), LLC, Pad ID: Remley Drilling Pad #1, ABR-201012035.1, Jackson Township, Columbia County, Pa.; Consumptive Use of up to 8.000 mgd; Approval Date: August 8, 2011.

12. EXCO Resources (PA), LLC, Pad ID: Hess Drilling Pad #1, ABR-201012037.1, Jackson Township, Columbia County, Pa.; Consumptive Use of up to 8.000 mgd; Approval Date: August 8, 2011.

13. Southwestern Energy Production Company, Pad ID: Shively Pad, ABR-201108011, Lenox Township, Susquehanna County, Pa.; Consumptive Use of up to 4.990 mgd; Approval Date: August 8, 2011.

14. Carrizo (Marcellus), LLC, Pad ID: Frystak Central Pad, ABR-201108012, Bridgewater Township, Susquehanna County, Pa.; Consumptive Use of up to 2.100 mgd; Approval Date: August 8, 2011.

15. Chesapeake Appalachia, LLC, Pad ID: CSB, ABR-201108013, Cherry Township, Sullivan County, Pa.; Consumptive Use of up to 7.500 mgd; Approval Date: August 8, 2011.

16. Chesapeake Appalachia, LLC, Pad ID: Joe, ABR-201108014, Wilmot Township, Bradford County, Pa.; Consumptive Use of up to 7.500 mgd; Approval Date: August 8, 2011.

17. Chesapeake Appalachia, LLC, Pad ID: Rock Ridge, ABR-201108015, Towanda Township, Bradford County, Pa.; Consumptive Use of up to 7.500 mgd; Approval Date: August 8, 2011.

18. J-W Operating Company, Pad ID: Pardee-F, ABR-201108016, Shippen Township, Cameron County, Pa.; Consumptive Use of up to 5.000 mgd; Approval Date: August 9, 2011.

19. Anadarko E&P Company LP, Pad ID: COP Tract 356 Pad G, ABR-201108017, Cummings Township, Lycoming County, Pa.; Consumptive Use of up to 4.000 mgd; Approval Date: August 10, 2011.

20. Chief Oil & Gas LLC, Pad ID: Savage Drilling Pad #1, ABR-20118018, Elkland Township, Sullivan County, Pa.; Consumptive Use of up to 2.000 mgd; Approval Date: August 10, 2011.

21. EXCO Resources (PA), LLC, Pad ID: Sterner Drilling Pad #1, ABR-201012036.1, Jackson Township, Columbia County, Pa.; Consumptive Use of up to 8.000 mgd; Approval Date: August 12, 2011.

22. Chesapeake Appalachia, LLC, Pad ID: Colcam, ABR-201108019, Meshoppen Township, Wyoming County, Pa.; Consumptive Use of up to 7.500 mgd; Approval Date: August 12, 2011.

23. Southwestern Energy Production Company, Pad ID: Roman Pad, ABR-201108020, New Milford Township, Susquehanna County, Pa.; Consumptive Use of up to 4.990 mgd; Approval Date: August 15, 2011.

24. Chesapeake Appalachia, LLC, Pad ID: Mad Dog, ABR-201108021, Wilmot Township, Bradford County, Pa.; Consumptive Use of up to 7.500 mgd; Approval Date: August 15, 2011.

25. Southwestern Energy Production Company, Pad ID: Alexander Pad, ABR-201108022, New Milford Township, Susquehanna County, Pa.; Consumptive Use of up to 4.990 mgd; Approval Date: August 15, 2011.

26. Southwestern Energy Production Company, Pad ID: Grizzanti Pad, ABR-201108023, New Milford Township, Susquehanna County, Pa.; Consumptive Use of up to 4.990 mgd; Approval Date: August 15, 2011.

27. EXCO Resources (PA), LLC, Pad ID: Marquardt Drilling Pad #1, ABR-201008008.1, Davidson Township, Sullivan County, Pa.; Consumptive Use of up to 8.000 mgd; Approval Date: August 15, 2011.

28. EXCO Resources (PA), LLC, Pad ID: Quava Drilling Pad #1, ABR-201009068.1, Davidson Township, Sullivan County, Pa.; Consumptive Use of up to 8.000 mgd; Approval Date: August 15, 2011.

29. EXCO Resources (PA), LLC, Pad ID: Wistar-Shaffer Tracts Drilling Pad #1, ABR-201009071.1, Shrewsbury Township, Sullivan County, Pa.; Consumptive Use of up to 8.000 mgd; Approval Date: August 15, 2011.

30. EQT Production Company, Pad ID: Phoenix I, ABR-201108024, Duncan Township, Tioga County, Pa.; Consumptive Use of up to 3.000 mgd; Approval Date: August 16, 2011.

31. Seneca Resources Corporation, Pad ID: DCNR 595 Pad E 70V, ABR-201108025, Blossburg Borough, Tioga County, Pa.; Consumptive Use of up to 4.000 mgd; Approval Date: August 19, 2011.

32. Talisman Energy USA Inc., Pad ID: 05 008 Michnich, ABR-201108026, Pike Township, Bradford County, Pa.; Consumptive Use of up to 6.000 mgd; Approval Date: August 17, 2011.

33. Talisman Energy USA Inc., Pad ID: 05 057 Michnich, ABR-201108027, Pike Township, Bradford County, Pa.; Consumptive Use of up to 6.000 mgd; Approval Date: August 17, 2011.

34. Talisman Energy USA Inc., Pad ID: 05 257 Lombardo J, ABR-201108028, Pike Township, Bradford County, Pa.; Consumptive Use of up to 6.000 mgd; Approval Date: August 17, 2011.

35. Southwestern Energy Production Company, Pad ID: Zeffer Pad, ABR-201108029, New Milford Township, Susquehanna County, Pa.; Consumptive Use of up to 4.990 mgd; Approval Date: August 19, 2011.

36. Southwestern Energy Production Company, Pad ID: Scott Pad, ABR-201108030, New Milford Township, Susquehanna County, Pa.; Consumptive Use of up to 4.990 mgd; Approval Date: August 19, 2011.

37. Chesapeake Appalachia, LLC, Pad ID: Alexander, ABR-201108031, Terry Township, Bradford County, Pa.; Consumptive Use of up to 7.500 mgd; Approval Date: August 19, 2011.

38. Seneca Resources Corporation, Pad ID: DCNR 100 Pad G, ABR-201108032, McIntyre Township, Lycoming County, Pa.; Consumptive Use of up to 4.000 mgd; Approval Date: August 19, 2011.

39. Seneca Resources Corporation, Pad ID: DCNR 595 Pad L, ABR-201108033, Bloss Township, Tioga County, Pa.; Consumptive Use of up to 4.000 mgd; Approval Date: August 19, 2011.

40. Chesapeake Appalachia, LLC, Pad ID: Tyler, ABR-201108034, Auburn Township, Susquehanna County, Pa.; Consumptive Use of up to 7.500 mgd; Approval Date: August 23, 2011.

41. Chesapeake Appalachia, LLC, Pad ID: Hillis, ABR-201108035, Herrick and Wyalusing Townships, Bradford County, Pa.; Consumptive Use of up to 7.500 mgd; Approval Date: August 23, 2011.

42. Chesapeake Appalachia, LLC, Pad ID: Susan, ABR-201108036, Auburn Township, Susquehanna County, Pa.; Consumptive Use of up to 7.500 mgd; Approval Date: August 23, 2011.

43. Talisman Energy USA Inc., Pad ID: 03 074 Haralambous, ABR-201108037, Columbia Township, Bradford County, Pa.; Consumptive Use of up to 6.000 mgd; Approval Date: August 24, 2011.

44. Chesapeake Appalachia, LLC, Pad ID: Adams, ABR-201108038, Windham Township, Wyoming County, Pa.; Consumptive Use of up to 7.500 mgd; Approval Date: August 24, 2011.

45. Talisman Energy USA Inc., Pad ID: 02 105 Berguson J, ABR-201108039, Hamilton Township, Tioga County, Pa.; Consumptive Use of up to 6.000 mgd; Approval Date: August 25, 2011.

46. XTO Energy, Pad ID: PA Tract Unit I, ABR-201108040, Chapman Township, Clinton County, Pa.; Consumptive Use of up to 4.000 mgd; Approval Date: August 26, 2011.

47. XTO Energy, Pad ID: PA Tract Unit E, ABR-201108041, Chapman Township, Clinton County, Pa.; Consumptive Use of up to 4.000 mgd; Approval Date: August 26, 2011.

48. Talisman Energy USA Inc., Pad ID: 03 034 Roy B, ABR-201108042, Wells Township, Bradford County, Pa.; Consumptive Use of up to 6.000 mgd; Approval Date: August 29, 2011.

49. Talisman Energy USA Inc., Pad ID: 02 114 Shanley R, ABR-201108043, Union Township, Tioga County, Pa.; Consumptive Use of up to 6.000 mgd; Approval Date: August 29, 2011.

50. Talisman Energy USA Inc., Pad ID: 05 104 Rennekamp R, ABR-201108044, Pike Township, Bradford County, Pa.; Consumptive Use of up to 6.000 mgd; Approval Date: August 29, 2011.

51. Talisman Energy USA Inc., Pad ID: 02 121 Pine Hill Inc., ABR-201108045, Ward Township, Tioga County, Pa.; Consumptive Use of up to 6.000 mgd; Approval Date: August 29, 2011.

52. Talisman Energy USA Inc., Pad ID: 02 109 Frederick L, ABR-201108046, Hamilton Township, Tioga County, Pa.; Consumptive Use of up to 6.000 mgd; Approval Date: August 30, 2011.

53. Chesapeake Appalachia, LLC, Pad ID: Merryall, ABR-201108047, Wyalusing Township, Bradford County, Pa.; Consumptive Use of up to 7.500 mgd; Approval Date: August 30, 2011.

54. Chesapeake Appalachia, LLC, Pad ID: Albertson, ABR-201108048, Athens Township, Bradford County, Pa.; Consumptive Use of up to 7.500 mgd; Approval Date: August 30, 2011.

55. Cabot Oil & Gas Corporation, Pad ID: CorbinJ P1, ABR-201108049, Brooklyn Township, Susquehanna County, Pa.; Consumptive Use of up to 3.575 mgd; Approval Date: August 30, 2011.

56. Talisman Energy USA Inc., Pad ID: 05 123 Rinker J, ABR-201108050, Windham Township, Bradford County, Pa.; Consumptive Use of up to 6.000 mgd; Approval Date: August 31, 2011.

57. Talisman Energy USA Inc., Pad ID: 05 235 Rogers H, ABR-201108051, Windham Township, Bradford County, Pa.; Consumptive Use of up to 6.000 mgd; Approval Date: August 31, 2011.

58. Talisman Energy USA Inc., Pad ID: 05 174 Carlsen C, ABR-201108052, Windham Township, Bradford County, Pa.; Consumptive Use of up to 6.000 mgd; Approval Date: August 31, 2011.

59. Talisman Energy USA Inc., Pad ID: 05 203 Race, ABR-201109001, Windham Township, Bradford County, Pa.; Consumptive Use of up to 6.000 mgd; Approval Date: September 6, 2011.

60. Chesapeake Appalachia, LLC, Pad ID: Jag, ABR-201109002, Franklin Township, Bradford County, Pa.; Consumptive Use of up to 7.500 mgd; Approval Date: September 6, 2011.

61. Anadarko E&P Company, LP, Pad ID: Lycoming H&FC Pad C, ABR-201109003, Cogan House Township, Lycoming County, Pa.; Consumptive Use of up to 4.000 mgd; Approval Date: September 6, 2011.

62. Talisman Energy USA Inc., Pad ID: 02 113 Reinfried C, ABR-201109004, Ward Township, Tioga County, Pa.; Consumptive Use of up to 6.000 mgd; Approval Date: September 14, 2011.

63. Pennsylvania General Energy Company, LLC, Pad ID: COP Tract 293 Pad G, ABR-201109005, McHenry Township, Lycoming County, Pa.; Consumptive Use of up to 3.500 mgd; Approval Date: September 14, 2011.

64. Williams Production Appalachia LLC, Pad ID: Carty—Wisemen Well Pad, ABR-201109006, Liberty Township, Susquehanna County, Pa.; Consumptive Use of up to 4.000 mgd; Approval Date: September 15, 2011.

65. Williams Production Appalachia LLC, Pad ID: Kass North Well Pad, ABR-201109007, Liberty Township, Susquehanna County, Pa.; Consumptive Use of up to 4.000 mgd; Approval Date: September 15, 2011.

66. Talisman Energy USA Inc., Pad ID: 05 068 PNMT and Associates Inc, ABR-201109008, Pike Township, Bradford County, Pa.; Consumptive Use of up to 6.000 mgd; Approval Date: September 16, 2011.

67. Williams Production Appalachia LLC, Pad ID: Robinson Well Pad, ABR-201109009, Liberty Township, Susquehanna County, Pa.; Consumptive Use of up to 4.000 mgd; Approval Date: September 16, 2011.

68. Talisman Energy USA Inc., Pad ID: 05 109 Ostrander R, ABR-201109010, Warren Township, Bradford County, Pa.; Consumptive Use of up to 6.000 mgd; Approval Date: September 19, 2011.

69. Talisman Energy USA Inc., Pad ID: 05 152 Brown D, ABR-201109011, Orwell Township, Bradford County, Pa.; Consumptive Use of up to 6.000 mgd; Approval Date: September 19, 2011.

70. Chesapeake Appalachia, LLC, Pad ID: McGroarty, ABR-201109012, Albany Township, Bradford County, Pa.; Consumptive Use of up to 7.500 mgd; Approval Date: September 19, 2011.

71. Chesapeake Appalachia, LLC, Pad ID: Manella Acres, ABR-201109013, Albany Township, Bradford County, Pa.; Consumptive Use of up to 7.500 mgd; Approval Date: September 19, 2011.

72. Chesapeake Appalachia, LLC, Pad ID: LKM, ABR-201109014, Litchfield Township, Bradford County, Pa.; Consumptive Use of up to 7.500 mgd; Approval Date: September 19, 2011.

73. Talisman Energy USA Inc., Pad ID: 07 018 Bennett R, ABR-201109015, Rush Township, Susquehanna County, Pa.; Consumptive Use of up to 6.000 mgd; Approval Date: September 20, 2011.

74. Anadarko E&P Company, LP, Pad ID: COP Tract 731 Pad C, ABR-201109016, Cummings Township, Lycoming County, Pa.; Consumptive Use of up to 4.000 mgd; Approval Date: September 20, 2011.

75. Anadarko E&P Company, LP, Pad ID: COP Tract 731 Pad D, ABR-201109017, Cummings Township, Lycoming County, Pa.; Consumptive Use of up to 4.000 mgd; Approval Date: September 20, 2011.

76. XTO Energy Incorporated, Pad ID: PA Tract Unit G, ABR-201109018, Chapman Township, Clinton County, Pa.; Consumptive Use of up to 4.000 mgd; Approval Date: September 23, 2011.

77. Talisman Energy USA Inc., Pad ID: 02 110 Martin G, ABR-201109019, Ward Township, Tioga County, Pa.; Consumptive Use of up to 6.000 mgd; Approval Date: September 23, 2011.

78. Chief Oil & Gas LLC, Pad ID: Yonkin Drilling Pad #1, ABR-201109020, Cherry Township, Sullivan County, Pa.; Consumptive Use of up to 2.000 mgd; Approval Date: September 23, 2011.

79. Anadarko E&P Company, LP, Pad ID: COP Tract 731 Pad E, ABR-201109021, Cummings Township, Lycoming County, Pa.; Consumptive Use of up to 4.000 mgd; Approval Date: September 26, 2011.

80. Anadarko E&P Company, LP, Pad ID: COP Tract 685 Pad B, ABR-201109022, Cummings Township, Lycoming County, Pa.; Consumptive Use of up to 4.000 mgd; Approval Date: September 26, 2011.

81. Anadarko E&P Company, LP, Pad ID: Lycoming H&FC Pad A, ABR-201109023, Cogan House Township, Lycoming County, Pa.; Consumptive Use of up to 4.000 mgd; Approval Date: September 26, 2011.

82. Anadarko E&P Company, LP, Pad ID: Lycoming H&FC Pad D, ABR-201109024, Cogan House Township, Lycoming County, Pa.; Consumptive Use of up to 4.000 mgd; Approval Date: September 26, 2011.

83. Cabot Oil & Gas Corporation, Pad ID: HeitzenroderA P1, ABR-201109025, Springville Township, Susquehanna County, Pa.; Consumptive Use of up to 3.575 mgd; Approval Date: September 26, 2011.

84. Cabot Oil & Gas Corporation, Pad ID: BurtsL P1, ABR-201109026, Forest Lake Township, Susquehanna County, Pa.; Consumptive Use of up to 3.575 mgd; Approval Date: September 26, 2011.

85. Cabot Oil & Gas Corporation, Pad ID: FrystakC P1, ABR-201109027, Bridgewater Township, Susquehanna County, Pa.; Consumptive Use of up to 3.575 mgd; Approval Date: September 26, 2011.

86. Carrizo (Marcellus), LLC, Pad ID: Bush Pad, ABR-201109028, Forest Lake Township, Susquehanna County, Pa.; Consumptive Use of up to 2.100 mgd; Approval Date: September 27, 2011.

87. Enerplus Resources (USA) Corporation, Pad ID: Winner 2 Well Pad, ABR-201109029, East Keating Township, Clinton County, Pa.; Consumptive Use of up to 4.000 mgd; Approval Date: September 27, 2011.

88. Chief Oil & Gas LLC, Pad ID: Elliott B Drilling Pad #1, ABR-201109030, Monroe Township, Bradford County, Pa.; Consumptive Use of up to 2.000 mgd; Approval Date: September 27, 2011.

89. Chief Oil & Gas LLC, Pad ID: Kerr B Drilling Pad #1, ABR-201109031, Lathrop Township, Susquehanna County, Pa.; Consumptive Use of up to 2.000 mgd; Approval Date: September 27, 2011.

90. Chesapeake Appalachia, LLC, Pad ID: Smurkoski, ABR-201109032, Meshoppen Township, Wyoming County, Pa.; Consumptive Use of up to 7.500 mgd; Approval Date: September 30, 2011.

91. Chesapeake Appalachia, LLC, Pad ID: Circle H, ABR-201109033, Wilmot Township, Bradford County, Pa.; Consumptive Use of up to 7.500 mgd; Approval Date: September 30, 2011.

92. Seneca Resources Corporation, Pad ID: DCNR 595 Pad N, ABR-20119034, Bloss Township, Tioga County, Pa.; Consumptive Use of up to 4.000 mgd; Approval Date: September 30, 2011.

93. Chesapeake Appalachia, LLC, Pad ID: Stone, ABR-201109035, Tuscarora Township, Bradford County, Pa.; Consumptive Use of up to 7.500 mgd; Approval Date: September 30, 2011.

Authority: Pub. L. 91-575, 84 Stat. 1509 et seq., 18 CFR Parts 806, 807, and 808.

Dated: October 11, 2011.
Stephanie L. Richardson,
Secretary to the Commission.

[FR Doc. 2011-27603 Filed 10-24-11; 8:45 am]

BILLING CODE 7040-01-P